DEPARTMENT OF COMMERCE

International Trade Administration

[A-533-843]

Certain Lined Paper Products From India: Partial Rescission of Antidumping Duty Administrative Review; 2013-2014

AGENCY: Enforcement and Compliance, International Trade Administration, U.S. Department of Commerce.

SUMMARY: The Department of Commerce (the Department) is conducting an administrative review of the antidumping duty order on certain lined paper products (CLPP) from India.¹ The period of review (POR) is September 1, 2013, through August 31, 2014, and the Department initiated the review with respect to seven companies.² We are rescinding the review with respect to three companies for which review requests were timely withdrawn.³

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

² The seven companies are: Kokuyo Riddhi Paper Products Private Limited (Kokuyo Riddhi), Marisa International (Marisa), Navneet Publications (India) Ltd./Navneet Education Limited (Navneet), Pioneer Stationery Private Limited (Pioneer), Riddhi Enterprises, SAB International (SAB), and Super Impex (AKA M/S Super Impex) (Super Impex).

³ The three companies include: Marisa, Pioneer, and Super Impex. Although Kokuyo Riddhi and Navneet filed timely withdrawal requests, petitioners' withdrawal request did not include a withdrawal of Kokuyo Riddhi and Navneet, companies for which the petitioners requested a review. Therefore, Kokuyo Riddhi and Navneet remain subject to the instant review.

DATES: Effective March 24, 2015.

FOR FURTHER INFORMATION CONTACT: Cindy Robinson or George McMahon, AD/CVD Operations, Office III, Enforcement and Compliance, International Trade Administration, U.S. Department of Commerce, 14th Street and Constitution Avenue NW., Washington, DC 20230; telephone (202) 482-3797 or (202) 482-1167, respectively.

SUPPLEMENTARY INFORMATION:

Background

On September 2, 2014, the Department published a notice of opportunity to request an administrative review of the antidumping duty order on certain lined paper from India.⁴ Pursuant to requests from interested parties, the Department published in the Federal Register the notice of initiation ⁵ of this antidumping duty administrative review with respect seven companies for the period September 1, 2013, through August 31, 2014.

⁴ See Antidumping or Countervailing Duty Order, Finding, or Suspended Investigation; Opportunity To Request Administrative Review, 79 FR 51958 (September 2, 2014).

⁵ See Initiation of Antidumping and Countervailing Duty Administrative Reviews, 79 FR 64565 (October 30, 2014).

Rescission of Review, in Part

Pursuant to 19 CFR 351.213(d)(1), the Secretary will rescind an administrative review, in whole or in part, if a party that requested a review withdraws the request within 90 days of the date of publication of the notice of initiation of the requested review. The instant review was initiated on October 30, 2014. Accordingly, the deadline to timely file withdrawal of review requests was January 28, 2015.

Petitioners submitted requests for review with respect to the following seven companies: Kokuyo Riddhi, Marisa, Navneet, Pioneer, Riddhi Enterprises, SAB, and Super Impex.⁶ On December 12, 2014, Navneet timely withdrew its request for administrative review. On January 28, 2015, the petitioners timely withdrew their request for administrative review of Marisa, Pioneer, and Super Impex. On January 28, 2015, Kokuyo Riddhi withdrew its request for administrative review. Thus, the aforementioned withdrawal requests are timely because they were filed within the 90-day deadline.

⁶ See Petitioners' letter dated September 30, 2014.

In accordance with 19 CFR 351.213(d)(1) and consistent with our practice,⁷ we are rescinding this review with respect to Marisa, Pioneer, and Super Impex. The instant review will continue with respect to Kokuyo Riddhi, Navneet, Riddhi Enterprises, and SAB.⁸

⁷ See, e.g., Brass Sheet and Strip from Germany: Notice of Rescission of Antidumping Duty Administrative Review, 73 FR 49170 (August 20, 2008); Certain Lined Paper Products from India: Notice of Partial Rescission of Antidumping Duty Administrative Review and Extension of Time Limit for the Preliminary Results of Antidumping Duty Administrative Review, 74 FR 21781 (May 11, 2009).

⁸ Kokuyo Riddhi and Navneet remain in the instant review because the petitioners' withdrawal request did not include these two particular companies.

Assessment

The Department will instruct Customs and Border Protection (CBP) to assess antidumping duties on all appropriate entries. For the companies for which this review is rescinded, i.e., Marisa, Pioneer, and Super Impex, antidumping duties shall be assessed at rates equal to the cash deposit of estimated antidumping duties required at the time of entry, or withdrawal from warehouse, for consumption, during the period September 1, 2013, through August 31, 2014, in accordance with 19 CFR 351.212(c)(1)(i).

The Department intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in the Secretary's presumption that reimbursement of antidumping and/or countervailing duties occurred and the subsequent increase in the amount of antidumping duties assessed.

Notification Regarding Administrative Protective Order

This notice serves as a reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

This notice is issued and published in accordance with sections 751(a)(1) and 777(i)(1) of the Act and 19 CFR 351.213(d)(4).

Dated: March 18, 2015.
Gary Taverman,
Associate Deputy Assistant Secretary for Antidumping and Countervailing Duty Operations.

[FR Doc. 2015-06752 Filed 3-23-15; 8:45 am]

BILLING CODE 3510-DS-P